POSTAL REGULATORY COMMISSION

Facility Tours

AGENCY: Postal Regulatory Commission.

ACTION: Notice of Commission tours.

SUMMARY: On Monday, July 9, 2007, Postal Regulatory Commissioners and advisory staff members will tour an Amazon.com facility in New Castle, Delaware and the United States Postal Service processing and distribution plant in Philadelphia, Pennsylvania. The purpose of the tours is to observe operations.

DATES: July 9, 2007.

FOR FURTHER INFORMATION CONTACT: Ann C. Fisher, Chief of Staff, Postal Regulatory Commission, at 202-789-6803 or ann.fisher@prc.gov.

Dated: July 2, 2007.
Garry J. Sikora,
Acting Secretary.

[FR Doc. 07-3305 Filed 7-6-07; 8:45 am]

BILLING CODE 7710-FW-M